DEPARTMENT OF AGRICULTURE

Agricultural Marketing Service

[Document Number AMS-TM-11-0008; TM-11-01]

Notice of Funds Availability (NOFA) Inviting Applications for the 2011 Farmers' Market Promotion Program (FMPP)

AGENCY: Agricultural Marketing Service, USDA.

ACTION: Notice.

SUMMARY: The Agricultural Marketing Service (AMS) announces the availability of approximately $10 million in competitive grant funds for fiscal year (FY) 2011 to increase domestic consumption of agricultural commodities by expanding direct producer-to-consumer market opportunities. Examples of direct producer-to-consumer market opportunities include new farmers markets, roadside stands, community-supported agriculture (CSA) programs, agri-tourism activities, and other direct producer-to-consumer infrastructure. AMS hereby requests proposals from eligible entities within the following categories: agricultural cooperatives, producer networks, producer associations, local governments, nonprofit corporations, public benefit corporations, economic development corporations, regional farmers market authorities, and Tribal governments. The minimum award per grant is $5,000 and the maximum award per grant is $100,000. No matching funds are required.

DATES: Applications should be received at the address below and must be delivered not later than July 1, 2011. Applications received after the deadline will not be considered.

ADDRESSES: Submit proposals and other required materials to the 2011 Farmers' Market Promotion Program (FMPP) Grant Program, Agricultural Marketing Service, USDA, Room 4004-South Building, 1400 Independence Avenue, SW., Washington, DC, 20250-0269, phone 202-720-8317.

For hard-copy (paper) submissions, all forms, narratives, letters of support, and other required materials must be forwarded in one application package. AMS will not accept application packages by e-mail; electronic applications will be accepted only if submitted via http://www.Grants.gov. AMS strongly recommends that each applicant visit the AMS Web site at http://www.ams.usda.gov/FMPP to review a copy of the 2011 FMPP Guidelines and application instructions to assist in preparing the proposal narrative and application.

FOR FURTHER INFORMATION CONTACT: Ms. Carmen Humphrey, Branch Chief, Marketing Grants and Technical Services Branch, Marketing Services Division, Transportation and Marketing Programs, AMS, USDA, on 202-720-8317, or via facsimile on 202-690-0031. State that your request for information refers to Document No. AMS-TM-11-0008.

SUPPLEMENTARY INFORMATION: This solicitation is issued pursuant to Section 6 of the Farmer-to-Consumer Direct Marketing Act of 1976 (7 U.S.C. 3001-3006) as amended by Section 10605 of the Farm Security and Rural Investment Act of 2002 (Pub. L. 107-171) authorizing the establishment of the Farmers' Market Promotion Program (7 U.S.C. 3005) (FMPP) and as amended by section 10106 of the Food, Conservation and Energy Act of 2008 (Pub. L. 110-246). The amended act states that the purposes of the FMPP are “(A) to increase domestic consumption of agricultural commodities by improving and expanding, or assisting in the improvement and expansion of domestic farmers markets, roadside stands, community-supported agriculture programs, agri-tourism activities and other direct producer-to-consumer market opportunities; and (B) to develop, or aid in the development of new farmers markets, roadside stands, community-supported agriculture programs, agri-tourism activities, and other direct producer-to-consumer marketing opportunities.”

Detailed program guidelines may be obtained at http://www.ams.usda.gov/FMPP or from the contact listed above. In accordance with the Secretary's Statement of Policy (36 FR 13804), it is found and determined upon good cause that it is impracticable, unnecessary, and contrary to the public's interest to engage in further public participation under 5 U.S.C 553 because the applications for the FMPP need to be made available as soon as possible as the program season approaches.

Background

AMS will grant awards for projects that continue developing, promoting, and expanding direct marketing of agricultural commodities from farmers to consumers. Eligible FMPP proposals should support marketing entities where agricultural farmers or vendors sell their own products directly to consumers, and the sales of these farm products should represent the core business of the entity.

All eligible entities shall be domestic entities; i.e., those owned, operated, and located within one or more of the 50 United States and the District of Columbia only. Entities located within U.S. territories are not eligible.

Additionally, under this program eligible entities must apply for FMPP funds on behalf of direct marketing operators that include two or more agricultural farmers/vendors that produce and sell their own products through a common distribution channel. Individual agricultural producers and sole proprietors, including farmers and farmers market vendors, roadside stand operators, community-supported agriculture participants, and other individual direct marketers are not eligible for FMPP funds.

FMPP grant funds must be applied to the specific programs and objectives identified in the application. Proprietary projects and projects that benefit one agricultural producer or individual will not be considered.

In a coordinated effort to eliminate food deserts in urban and rural areas in the United States with limited access to affordable, nutritious, and healthy food, AMS in coordination with other USDA, Treasury, and Health and Human Services grantors will give funding priority to the development of healthy food retail outlets in food deserts (areas with limited access to affordable and nutritious food, particularly areas composed of predominantly lower-income neighborhoods and communities). USDA, Treasury and Health and Human Services seek to increase access to “healthy foods” which include whole foods such as fruits, vegetables, whole grains, fat free or low-fat dairy, and lean meats that are perishable (fresh, refrigerated, or frozen) or canned as well as nutrient-dense foods and beverages encouraged by the 2010 Dietary Guidelines for Americans.

Under FMPP, healthy food retail outlets will include producer-to-consumer marketing outlets that sell healthy foods including, but not limited to, farmers markets, CSAs, and road-side stands. A healthy food retail outlet might also be an existing producer-to-consumer market that upgrades to offer a full range of healthy food choices, particularly fresh fruits and vegetables in underserved areas.

AMS will give FMPP funding priority to measurable, outcome-based, and output-based projects that focus on developing healthy food direct-marketing outlets in food deserts. These projects must improve food access by developing new marketing outlets that sell healthy foods in food desert communities; or improving infrastructure and distribution (transportation, processing, storage, and other equipment) for healthy foods in food desert communities.

These projects will receive additional points under FMPP if in addition to meeting all the other established criteria for FMPP projects, the project is located in one of the USDA-identified food desert census tracts or a low-income area (with at least a 20 percent poverty rate). For additional information, see the 2011 FMPP Guidelines at http://www.ams.usda.gov/FMPP.

Not less than 10 percent of the total available funds will be used to support the use of new electronic benefits transfer (EBT) for Federal nutrition programs at farmers markets. To be considered within the 10 percent allotment of funds for EBT, the application narrative must clearly designate the applicant's intent to compete for FMPP funds as a new EBT project. FMPP funds shall be provided to successful proposals that demonstrate a plan to continue to provide EBT card access at one or more farmers markets following the receipt of the grant.

When an applicant has multiple project ideas, AMS requires that similar proposals be submitted in the application package. Due to the legislative mandate, the Agency differentiates projects as EBT-related or non EBT-related submissions. As such, all non-EBT project ideas must be submitted in one application and all new or existing EBT-related projects submitted in a second, distinctly separate application. Failure to comply with this requirement will result in the rejection of the application. See the 2011 FMPP Guidelines at http://www.ams.usda.gov/FMPP for instructions for multiple application submissions.

While there is no limit to the number of applications that may be submitted, AMS will only award an organization one grant in a funding year. Awardees from the FY 2010 grant program will not be considered for FMPP funding in FY 2011.

FMPP reserves the right to reject an application that is incomplete or does not follow the application requirements; i.e., hand-written or in excess of the required page limitation. Application packages without required information will not be considered. FMPP's award decisions are final.

Paperwork Reduction Act

In accordance with the Paperwork Reduction Act of 1995, (44 U.S.C. Chapter 35), the FMPP information collection was previously approved by OMB and was assigned OMB control number 0581-0235.

AMS is committed to compliance with the Government Paperwork Elimination Act (GPEA) that requires Government agencies in general to provide the public the option of submitting information or transacting business electronically to the maximum extent possible.

How To Submit Proposals and Applications

Each applicant must follow the application preparation and submission instructions provided within the 2011 FMPP Guidelines at http://www.ams.usda.gov/FMPP. Electronic forms, proposals, letters of support, or any other application materials e-mailed directly to AMS-FMPP or USDA-AMS staff will not be accepted.

Following are the options available for submitting proposals and applications to AMS:

Paper Submissions—An original and one copy of the proposal, required forms, narrative, letters of support, and all required materials must be submitted in one package, preferably via express mail.

Electronic Submissions via Grants.gov—Applicants may apply electronically for grants through Grants.gov at http://www.Grants.gov (insert 10.168 in grant search field) and are strongly encouraged to initiate the electronic submission process at least two weeks prior to the application deadline. Grants.gov applicants who submit their FMPP proposals via this Federal grants web site are not required to submit any paper documents to FMPP.

FMPP is listed in the “Catalog of Federal Domestic Assistance” under number 10.168. Subject agencies, including FMPP, must adhere to Title VI of the Civil Rights Act of 1964, which bars discrimination in all federally assisted programs.

Dated: May 24, 2011.
Rayne Pegg,
Administrator.

[FR Doc. 2011-13483 Filed 5-31-11; 8:45 am]

BILLING CODE 3410-02-P